DEPARTMENT OF HEALTH AND HUMAN SERVICES

Food and Drug Administration

[Docket No. FDA-2011-N-0002]

Food and Drug Administration Health Professional Organizations Conference

AGENCY: Food and Drug Administration, HHS.

ACTION: Notice of public conference.

The Food and Drug Administration (FDA) is announcing a conference for representatives of Health Professional Organizations. Dr. Margaret Hamburg, Commissioner of the Food and Drugs, and Dr. Janet Woodcock, Director of FDA's Center for Drug Evaluation and Research have been invited to speak about their visions of the relationship between the Agency and the health professional community. Other topics on the agenda include Risk Evaluation and Mitigation Strategies and the Unapproved Drugs Initiative.

Date and Time: The conference will be held on October 31, 2011, from 8 a.m. to 1:30 p.m.

Location: The conference will be held at the FDA White Oak Campus, 10903 New Hampshire Ave., Building 31 Conference Center, the Great Room (rm. 1503), Silver Spring, MD 20993-0002.

Contact Person: For further information contact Janelle Derbis, Office of Special Health Issues, 10903 New Hampshire Ave., Silver Spring, MD 20993, 312-596-6516, Fax: 312-886-1682, Janelle.Derbis@fda.hhs.gov.

Registration: Register at http://www.cvent.com/d/fcq7vv/4W by October 7, 2011. Please include the name and title of the person attending, the name of the organization, address, and telephone number. There is no registration fee for this conference. Early registration is suggested because space is limited. We request that organizations limit the number of representatives to two. For further registration information, call 1-866-318-4357.

SUPPLEMENTARY INFORMATION: The aim of the conference is to further the public health mission of the FDA through training, collaboration, and structured discussion between health professional organizations and FDA staff. The Office of Special Health Issues serves as a liaison between the FDA Centers and the public on matters that involve medical product safety and also acts as the public's link to information about the medical product approval process.

The topics of discussion for this conference will include three separate panels that will highlight examples where FDA and health professional organizations collaborate to further public health. The goal of the panel presentations is to exchange ideas, highlight the value of FDA and health professional organizations working together, and encourage collaboration to promote public health. A list of concurrent breakout session topics is included in the agenda to facilitate informal discussion on how FDA and health professional organizations can collaborate more effectively. Please indicate during your registration the topics of greatest interest to you for the breakout session.

If you need special accommodations due to a disability, please contact Janelle Derbis at least 7 days in advance.

Dated: September 6, 2011.
Leslie Kux,
Acting Assistant Commissioner for Policy.

[FR Doc. 2011-23101 Filed 9-8-11; 8:45 am]

BILLING CODE 4160-01-P